DEPARTMENT OF COMMERCE

National Telecommunications and Information Administration

[Docket No. 011109273-1273-01]

RIN 0660-XX13

Closing Comment Period on Deployment of Broadband Networks and Advanced Telecommunications

AGENCY: National Telecommunications and Information Administration, U.S. Department of Commerce.

ACTION: Notice.

SUMMARY: On November 19, 2001, the National Telecommunications and Information Administration (NTIA) published a Notice in the Federal Register inviting the public to submit comments on broadband deployment in the United States.¹ Interested parties were requested to submit comments in response to the Notice on or before December 19, 2001. Comments received after the December 19, 2001 deadline were received and posted as late-filed comments. As of January 18, 2002, the comment period in this docket is closed. NTIA will no longer accept or place in the record late-filed documents.

¹ 66 FR 57941 (2001). The initial Notice contained an incorrect date for the deadline, but a correction was published the following week. See 66 FR 59050 (Nov. 26, 2001).

DATES: The comment period in this docket is closed as of January 18, 2002.

SUPPLEMENTARY INFORMATION:

Background

NTIA is the executive branch agency responsible for developing and articulating domestic and international telecommunications policy. NTIA is the principal advisor to the President on telecommunications policies pertaining to the Nation's economic and technological advancement and to the regulation of the telecommunications industry. The request for comment on the deployment of broadband and advanced services is a part of NTIA's ongoing effort to obtain more information about broadband issues. The comments submitted in this proceeding will be used to assist the Administration in developing a domestic telecommunications policy and NTIA's continuing support for removing obstacles to broadband deployment.

Due to the complexity of the issues in this proceeding and to facilitate a fully developed record, NTIA allowed interested parties to submit comments after the December 19, 2001 deadline. Since that time, NTIA received a substantial number of comments. Effective January 18, 2002, however, NTIA will no longer accept or place in the public record comments in this proceeding.

FOR FURTHER INFORMATION CONTACT: Inquiries should be directed to the Office of Public Affairs, National Telecommunications and Information Administration, at (202) 482-7002.

Kathy D. Smith,
Chief Counsel, National Telecommunications and Information Administration.

[FR Doc. 02-1708 Filed 1-23-02; 8:45 am]

BILLING CODE 3510-60-P